DEPARTMENT OF THE INTERIOR

Fish and Wildlife Service

Information Collection Sent to the Office of Management and Budget (OMB) for Approval; OMB Control Number 1018-0075; Federal Subsistence Regulations and Associated Forms, 50 CFR 100

AGENCY: Fish and Wildlife Service, Interior.

ACTION: Notice; request for comments.

SUMMARY: We (Fish and Wildlife Service) have sent an Information Collection Request (ICR) to OMB for review and approval. The ICR, which is summarized below, describes the nature of the collection and the estimated burden and cost. This ICR is scheduled to expire on August 31, 2006. We may not conduct or sponsor and a person is not required to respond to a collection of information unless it displays a currently valid OMB control number. However, under OMB regulations, we may continue to conduct or sponsor this information collection while it is pending at OMB.

DATES: You must submit comments on or before August 23, 2006.

ADDRESSES: Send your comments and suggestions on this ICR to the Desk Officer for the Department of the Interior at OMB-OIRA at (202) 395-6566 (fax) or OIRA_DOCKET@OMB.eop.gov (e-mail). Please provide a copy of your comments to Hope Grey, Information Collection Clearance Officer, Fish and Wildlife Service, MS 222-ARLSQ, 4401 North Fairfax Drive, Arlington, VA 22203 (mail); (703) 358-2269 (fax); or hope_grey@fws.gov (e-mail).

FOR FURTHER INFORMATION CONTACT: To request additional information about this ICR, contact Hope Grey at one of the addresses above or by telephone at (703) 358-2482.

SUPPLEMENTARY INFORMATION: OMB Control Number: 1018-0075.

Title: Federal Subsistence Regulations and Associated Forms, 50 CFR 100.

Service Form Number(s): FWS Forms 3-2326, 3-2327, and 3-2328.

Type of Request: Revision of a currently approved collection.

Affected Public: Federally defined rural residents.

Respondent's Obligation: Required to obtain or retain benefits.

Frequency of Collection: On occasion.

Form No./activity | Number of respondents | Annual number or responses | Average burden hour per response | Total annual burden hours
3-2326—Application | 5,000 | 5,000 | 10 minutes | 833.3
3-2326—Report | *5,000 | 5,000 | 5 minutes | 416.6
3-2327—Application | 450 | 450 | 10 minutes | 75.0
3-2327—Permit | *450 | 450 | 5 minutes | 37.5
3-2327—Report | *450 | 450 | 5 minutes | 37.5
3-2328—Application | 250 | 250 | 10 minutes | 41.6
3-2328—Report | *250 | 250 | 20 minutes | 83.3
Appeals (nonform) | 1 | 1 | 4 hours | 4.0
Total | 5,701 | 11,851 |  | 1,528.8
*These respondents are not included in the total number since they are identical to the respondents for the applications.

Estimated Total Annual Cost to Public: $16,816.80.

Abstract: The Alaska Interest Lands Conservation Act (ANILCA) and Service regulations at 50 CFR part 100 require that persons engaged in taking fish and wildlife on public lands in Alaska apply for and obtain a permit to do so and comply with reporting provisions of that permit. We use three forms to collect information from qualified rural residents for subsistence harvest: FWS Form 3-2326 (Federal Subsistence Hunt Application, Permit, and Report), FWS Form 3-2327 (Designated Hunter Permit Application, Permit, and Report, and FWS Form 3-2328 (Federal Subsistence Fishing Application, Permit, and Report. We use the information collected to evaluate subsistence harvest success; the effectiveness of season lengths, harvest quotas, and harvest restrictions; hunting patterns and practices; and hunter use. The Federal Subsistence Board uses the harvest data, along with other information, to set future seasons and bag limits for Federal subsistence resource users. These seasons and bag limits are set to meet needs of subsistence hunters without adversely impacting the health of existing animal populations.

We also collect information from persons wishing to appeal Federal Subsistence Board decisions. Our regulations at 50 CFR 100.20 set forth procedures for appeals, including the documentation that must be submitted. The required documentation will ensure that we have all of the information necessary to adequately reconsider the decision.

Comments: On March 2, 2006, we published in the Federal Register (71 FR 10698) a notice of our intent to request that OMB renew approval for this information collection. In that notice, we solicited public comments for 60 days, ending on May 1, 2006. We received one comment. The commenter did not address the necessity, clarity, or accuracy of the information collection, but instead provided general comments on the low levels of law enforcement and the humane treatment of fish and wildlife. We did not make any changes to our information collection based on this comment.

We again invite comments concerning this information collection on:

(1) Whether or not the collection of information is necessary, including whether or not the information will have practical utility;

(2) The accuracy of our estimate of the burden for this collection of information;

(3) Ways to enhance the quality, utility, and clarity of the information to be collected; and

(4) Ways to minimize the burden of the collection of information on respondents. Comments submitted in response to this notice are a matter of public record.

Dated: June 27, 2006.
Hope Grey,
Information Collection Clearance Officer, Fish and Wildlife Service.

[FR Doc. E6-11646 Filed 7-21-06; 8:45 am]

BILLING CODE 4310-55-P